INTERNATIONAL TRADE COMMISSION

[Investigation No. 731-TA-1557 (Final)]

Certain Mobile Access Equipment and Subassemblies Thereof From China

Determination

On the basis of the record ¹ developed in the subject investigation, the United States International Trade Commission (“Commission”) determines, pursuant to the Tariff Act of 1930 (“the Act”), that an industry in the United States is threatened with material injury by reason of imports of certain mobile access equipment and subassemblies thereof (“mobile access equipment”) from China, provided for in subheadings 8427.10.80, 8427.20.80, 8427.90.00, and 8431.20.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 9576 (February 22, 2022).

Background

The Commission instituted this investigation effective February 26, 2021, following receipt of antidumping and countervailing duty petitions filed with the Commission and Commerce by the Coalition of American Manufacturers of Mobile Access Equipment (“CAMMAE” or “the Coalition”).³ The Commission scheduled the final phase of these investigations following notification of a preliminary determination by Commerce that imports of mobile access equipment from China were being subsidized within the meaning of section 703(b) of the Act (19 U.S.C. 1671b(b)). Notice of the scheduling of the final phase of the Commission's investigations and of a public hearing to be held in connection therewith was given by posting copies of the notice in the Office of the Secretary, U.S. International Trade Commission, Washington, DC, and by publishing the notice in the Federal Register of August 12, 2021 (86 FR 44402). In light of the restrictions on access to the Commission building due to the COVID-19 pandemic, the Commission conducted its hearing through written testimony and video conference on October 12, 2021. All persons who requested the opportunity were permitted to participate.

³ The Coalition is composed of JLG Industries, Inc. (“JLG”), Hagerstown, Maryland and Terex Corp. (“Terex”), Redmond, Washington.

The investigation schedules became staggered when Commerce did not align its countervailing duty investigation with its antidumping duty investigation. Following notification of a final determination by Commerce that imports of mobile access equipment from China were being subsidized within the meaning of section 705(a) of the Act (19 U.S.C. 1671d(a)),⁴ on December 3, 2021, the Commission issued a final affirmative determination in its countervailing duty investigation of mobile access equipment from China.⁵ Following notification of a final determination by Commerce that imports of mobile access equipment from China were being sold at LTFV within the meaning of section 735(a) of the Act (19 U.S.C. 1673d(a)),⁶ notice of the supplemental scheduling of the final phase of the Commission's antidumping duty investigation was given by posting copies of the notice in the Office of the Secretary, U.S. International Trade Commission, Washington, DC, and by publishing the notice in the Federal Register of March 2, 2022 (87 FR 11730).

⁴ 86 FR 57809 (October 19, 2021).

⁵ 86 FR 70147 (December 9, 2021).

⁶ 87 FR 9576 (February 22, 2022).

The Commission made this determination pursuant to § 735(b) of the Act (19 U.S.C. 1673d(b)). It completed and filed its determination in this investigation on April 8, 2022. The views of the Commission are contained in USITC Publication 5317 (April 2022), entitled Certain Mobile Access Equipment and Subassemblies Thereof from China: Investigation No. 731-TA-1557 (Final).

By order of the Commission.
Issued: April 8, 2022.
Lisa Barton,
Secretary to the Commission.

[FR Doc. 2022-07912 Filed 4-12-22; 8:45 am]

BILLING CODE 7020-02-P